DEPARTMENT OF TRANSPORTATION

National Highway Traffic Safety Administration

[Docket No. NHTSA-2013-0081; Notice 1]

General Motors, LLC, Receipt of Petition for Decision of Inconsequential Noncompliance

AGENCY: National Highway Traffic Safety Administration, DOT.

ACTION: Receipt of Petition.

SUMMARY: General Motors, LLC (GM) has determined that certain model year 2013 Cadillac XTS passenger cars do not fully comply with paragraph S9.1.1 of Federal Motor Vehicle Safety Standard (FMVSS) No. 108, Lamps, Reflective Devices, and Associated Equipment. GM has filed an appropriate report dated May 16, 2013, pursuant to 49 CFR Part 573, Defect and Noncompliance Responsibility and Reports.

DATES: December 2, 2013.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand Delivery: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. GM's Petition: Pursuant to 49 U.S.C. 30118(d) and 30120(h) (see implementing rule at 49 CFR Part 556), GM submitted a petition for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

II. Vehicles Involved: Affected are approximately 24,139 model year 2013 Cadillac XTS passenger cars manufactured from February 2, 2012 to May 2, 2013.

III. Noncompliance: GM has determined that the turn signal in the subject vehicles does not fully comply with paragraph S9.1.1 of FMVSS No. 108, which requires an active turn signal to cancel when the steering wheel is rotated. On some of the vehicles, the turn signal may occasionally not self-cancel by steering wheel rotation. The turn signal can be cancelled manually.

IV. Rule Text: Paragraph S9.1.1 of FMVSS No. 108 specifically states:

S9.1 Turn signal operating unit.

S9.1.1 The turn signal operating unit installed on passenger cars, multipurpose passenger vehicles, trucks, and buses less than 2032 mm in overall width must be self-canceling by steering wheel rotation and capable of cancellation by a manually operated control.

V. Summary of GM's Analyses: GM stated its belief that the subject noncompliance is inconsequential to motor vehicle safety for the following reasons:

This condition is inconsequential to motor vehicle safety for the following reasons:

1. Manual operation of the turn signal is unaffected. The driver can manually cancel the turn signal in the rare event the self-cancelling feature does not work.

2. If the turn signal does not self-cancel, the driver is alerted to the fact that the turn signal remains on through multiple means:

a. The turn signal telltale continues to flash;

b. The audible turn signal indicator persists as long as the turn signal is active;

c. The redundant turn signals (mounted on the outer edge of both outboard mirrors) that are visible to the driver continue to flash as long as the turn signal is active;

d. After traveling 3/4 of mile with the turn signal active, a Driver Information Center message, “TURN SIGNAL ON,” is displayed indicating a turn signal has been left on; and

e. The DIC message is accompanied by a single chime to alert the driver to the DIC message indicating the turn signal is still active.

3. GM records as of the week of 13 May 2013 indicate the condition declares itself early and is nearly always repaired within the first few months of service.

a. GM does not have a specific labor code for the subject condition. Through a search of all possibly related labor codes, GM found nineteen repairs that might possibly be associated with subject condition. Even conservatively including all nineteen repairs as related to the subject condition, the resulting warranty rate is projected very low at 1.8 IPTV in 36 Month in Service.

b. Of the nineteen repairs, five were repaired prior to customer delivery and nine were repaired in the first 2 months in service.

4. NHTSA has previously granted petitions for inconsequential that are similar to the subject noncompliance.

GM has additionally informed NHTSA that it has corrected the noncompliance so that all future production vehicles will comply with FMVSS No. 108.

In summation, GM believes that the described noncompliance of the subject vehicles is inconsequential to motor vehicle safety, and that its petition, to exempt from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the subject 24,139 vehicles that GM no longer controlled at the time it determined that the noncompliance existed. However, any decision on this petition does not relieve vehicle distributors and dealers of the prohibitions on the sale, offer for sale, or introduction for delivery or introduction into interstate commerce of the noncompliant vehicles under their control after GM notified them that the subject noncompliance existed.

Authority: (49 U.S.C. 30118, 30120: delegations of authority at 49 CFR 1.95 and 501.8)

Issued on: October 29, 2013.
Claude H. Harris,
Director, Office of Vehicle Safety Compliance.

[FR Doc. 2013-26078 Filed 10-31-13; 8:45 am]

BILLING CODE 4910-59-P